DEPARTMENT OF TRANSPORTATION

Office of the Secretary

[Docket No. DOT-OST-2024-0047]

Request for Information on Goals, Criteria, Thresholds, and Measurable Data Sources for Designating the National Multimodal Freight Network

AGENCY: Office of the Secretary of Transportation (OST), Federal Aviation Administration (FAA), Federal Highway Administration (FHWA), Federal Railroad Administration (FRA), Maritime Administration (MARAD), Federal Motor Carrier Safety Administration (FMCSA), Great Lakes St. Lawrence Seaway Development Corporation (GLS), and Pipelines and Hazardous Materials Safety Administration (PHMSA).

ACTION: 60-Day day notice and request for comments.

SUMMARY: The U.S. Department of Transportation (DOT or Department) DOT is seeking information from the public, and in particular multimodal freight system users, transportation providers, metropolitan planning organizations, local governments, ports, airports, railroads, freight forwarders, brokers, other supply chain logisticians, scholars, and States on the best approach to identify critical freight facilities and corridors that will make up a National Multimodal Freight Network (NMFN) that is vital to achieving the national multimodal freight policy goals of the United States. DOT is issuing this Request for Information (RFI) to solicit input on how to prioritize the statutory goals of, and the statutory factors for designating, the NMFN, as well as measurable thresholds, criteria, and data sources for designating the NMFN. Informed by comments received in response to this RFI, DOT will draft a proposed network map to be published for public comment in the Late Spring of 2024 and provide an opportunity for States to provide input to submit additions to the network. After the final, subsequent comment period, DOT will review and approve additional designations for the NMFN by States and designate the final NMFN by December of 2024.

DATES: Comments must be received on or before June 11, 2024 to receive consideration by DOT with respect to the draft designation of the NMFN.

ADDRESSES: To ensure that you do not duplicate your docket submissions, please submit them by only one of the following means:

• Federal eRulemaking Portal: Go to http://www.regulations.gov and follow the online instructions for submitting comments.

• Mail: Docket Management Facility, U.S. Department of Transportation, 1200 New Jersey Ave. SE, W12-140, Washington, DC 20590-0001.

• Hand Delivery: West Building Ground Floor, Room W12-140, 1200 New Jersey Ave. SE, between 9 a.m. and 5 p.m., Monday through Friday, except Federal holidays. The telephone number is (202) 366-9329.

• Instructions: You must include the agency name and docket number at the beginning of your comments. All comments received will be posted without change to http://www.regulations.gov, including any personal information provided.

FOR FURTHER INFORMATION CONTACT: Paul Baumer, 202-366-1092 or email freight@dot.gov.

Background

Section 70103 of title 49, United States Code, which was established in section 8001 of the Fixing America's Surface Transportation (FAST) Act, Public Law 114-94 (Dec. 4, 2015) and amended by section 21103 of the Infrastructure Investment and Jobs Act (IIJA), Public Law 117-58 (Nov. 15, 2021), directs the Assistant Secretary for Multimodal Freight to establish a NMFN that will be used to: (1) assist States in strategically directing resources toward improved system performance for the efficient movement of freight on the NMFN; (2) inform freight transportation planning; (3) assist in the prioritization of Federal investment; and (4) assess and support Federal investments to achieve the national multimodal freight policy goals described in 49 U.S.C. 70101(b), and the national highway freight program goals described in 23 U.S.C. 167. DOT is directed to designate the NMFN after soliciting input from stakeholders through a public process and providing notice and comment on a draft system, with the goal of using measurable data as part of assessment of the significance of freight movement, to improve network and intermodal connectivity. DOT is requesting input from a broad cross section of stakeholders, but Section 70103 also provides a process for States to propose specific additions to the NMFN, referred to as “State Input”. States must consider nominations from freight stakeholders within their State, and ensure proposed additions are consistent with their State transportation improvement program or state freight plan. DOT anticipates requesting those additions this summer, at the same time as DOT requests input on the Draft Network.

The FAST Act directed DOT to establish an Interim NMFN based on criteria laid out in the statute. DOT published the Interim Network on June 16, 2016, and the public was invited to submit comments to the docket ¹ through September 6, 2016. In the Federal Register notice, DOT posed several questions for the public to consider, and States and other stakeholders were provided the opportunity to submit additional designations for consideration for inclusion into the Final NMFN, which was then to be designated by the Under Secretary of Transportation for Policy. DOT subsequently reopened and extended the comment period on the Interim NMFN on October 25, 2017.² DOT received 126 comments during the duration of the two public comment periods, ending in February 2018.

¹ 81 FR 36381.

² 82 FR 49478.

The freight transportation system has undergone significant changes in the time since the Department last solicited comments and additional designations for the Interim NMFN. With more data and information available, and the removal of any reference to the Interim NMFN by section 21103 of the IIJA, DOT has decided to reopen the NMFN designation process with this Request for Information.

The Department is requesting comments on several questions that are posed below. DOT will use this input to inform a draft NMFN, which DOT anticipates publishing in Late Spring 2024. Following publication of the draft network, DOT will establish a process to receive additional designations from the States via the “State Input” process outlined in statute49 U.S.C. 70103(b)(4). DOT expects to publish the final NMFN by the end of the calendar year. In order to meet that timeline, States should anticipate a 90-day window to provide their additional designations and associated State Input certifications.

The National Multimodal Freight Network vs. the National Highway Freight Network (NHFN)

Statutorily, the NMFN and the National Highway Freight Network (NHFN) serve similar goals. However, as currently authorized, the designation of the National Multimodal Freight Network does not have an impact on the National Highway Freight Network or the use of National Highway Freight Program (NHFP) formula funding. The process for designating the NMFN is being undertaken separately from the designation and re-designation of the NHFN, however, DOT is considering approaches that will maintain consistency between both networks

The Fast Act, as codified at 23 U.S.C 167(c), directed the FHWA Administrator to establish the NHFN to strategically direct Federal resources and policies toward improved performance of the NHFN. The NHFN includes the Primary Highway Freight System PHFS), which identifies the most critical highway portions of the U.S freight transportation system as determined by measurable and objective data. Other portions of the Interstate are included in the NHFN as well. States may designate Critical Rural Freight Corridors (CRFCs) and States, in coordination with MPOs, can also designate Critical Urban Freight Corridors (CUFCs). The FHWA Administrator is required to re-designate the PHFS every 5 years. DOT released the re-designated PHFS on December 2, 2022, and the next PHFS re-designation is due in 2027. More details on NHFN are available at https://ops.fhwa.dot.gov/freight/infrastructure/nfn/index.htm.

National Multimodal Freight Network Designation

Section 70103(b)(2) of Title 49, United States Code, directs DOT to consider twelve distinct factors in designating the route miles and facilities on the NMFN:

1. Origins and destinations of freight movement within, to, and from the United States;

2. Volume, value, tonnage, and the strategic importance of freight;

3. Access to border crossings, airports, seaports, and pipelines;

4. Economic factors, including balance of trade;

5. Access to major areas for manufacturing, agriculture, or natural resources;

6. Access to energy exploration, development, installation, and production areas;

7. Intermodal links and intersections that promote connectivity;

8. Freight choke points and other impediments contributing to significant measurable congestion, delay in freight movement, or inefficient modal connections;

9. Impacts on all freight transportation modes and modes that share significant freight infrastructure;

10. Facilities and transportation corridors identified by a multi-State coalition, a State, a State freight advisory committee, or an MPO, using national or local data, as having critical freight importance to the region;

11. Major distribution centers, inland intermodal facilities, and first- and last-mile facilities; ³ and

³ For the purposes of this RFI, DOT proposes that the definition for `major distribution centers, inland intermodal facilities, and first- and last-mile facilities include both those specific points, such as manufacturers, distribution points, rail intermodal, and port facilities, that handle high volumes of freight, and specific transportation assets, such as roadways, rail lines, or inland waterways, that provide the primary means of transport in the case of first mile, or to the final delivery point in the case of last mile.

12. The significance of goods movement, including consideration of global and domestic supply chains.

In considering the above factors, DOT is also directed to use, to the extent practicable, measurable data.⁴

⁴ See 49 U.S.C. 70103(c)(3).

DOT seeks comments on three primary areas for designating the NMFN. The first area seeks feedback from stakeholders on the NMFN goals. The second area asks stakeholders to prioritize the 12 factors listed above. The third area seeks comment on the potential thresholds, criteria, and data sources that correspond to one or more of the twelve factors, including a discussion of why the thresholds, criteria and data sources should be considered for designating the Final NMFN.

National Multimodal Freight Network Goals

1. Which of the following purposes is most important to ensuring the NMFN provides a foundation for the U.S. to compete in the global economy and why?

a. Prioritizing federal formula or discretionary grant investment.

b. Assisting States and local governments with strategically directing investments towards overall improved freight system performance.

c. Informing freight infrastructure planning and land use planning by state and local governments and private sector owners and operators.

d. Informing a national, integrated, and multimodal supply chain strategy.

2. How do you plan to use the National Multimodal Freight Network once it is designated?

Statutory Factors for Designation

3. How should DOT prioritize the twelve factors in designating route miles and facilities on the NMFN? Which factors are most important to ensuring the network provides a foundation for the U.S. to compete in the global economy? Which factors are most important to ensuring the NMFN serves regional and state goals?

Measurable Thresholds, Criteria, and Data

4. Among the various statutory factors, volume, value, and tonnage are among some of the most quantifiable and readily comparable across modes and routes/corridors within modes. What thresholds should DOT consider for volume, value, and tonnage for designating the NMFN? For reference, DOT has provided examples below.

a. Highway network: Prior to the current PHFS, FHWA's proposed a 2015 Highway Primary Freight Network ⁵ designation in 2015 that included a threshold of 8,500 Average Daily Truck Traffic (ADTT) ⁶ or greater for Interstates and other roads as a baseline threshold for identifying significant roadways in urban areas with a population of 200,000 or more. For non-Interstate routes, thresholds included a daily average of at least 3,000 trucks and having proximate land use or connectivity demonstrating indicators of national significance. Border crossings carrying an annual average of at least 75,000 trucks is another example consideration.

⁵ https://www.govinfo.gov/content/pkg/FR-2015-10-23/pdf/2015-27036.pdf.

⁶ At approximately 16 tons per truck, 8,500 trucks per day equates to approximately 50 million tons per year.

The Interim NMFN designated by DOT in 2016 incorporated the full NHFN, which includes the PHFS, the remaining Interstate miles, and Critical Urban and Critical Rural Freight Corridors designated by the States. The Department invites comments regarding whether the final NMFN should incorporate the full NHFN, or whether the highway portion of the NMFN should include additional or fewer routes relative to the NHFN and why.

b. Rail network: FHWA's 2008 Freight Story identified rail lines that carry 50 million tons in bulk cargo per year as significant for freight.⁷ Other example considerations include rail routes that fall within the top two thirds volume and/or value thresholds based on Carload Waybill data. The top 50 bulk origination/destination markets and the top 25 intermodal origination/destination markets may be another consideration.

⁷ https://ops.fhwa.dot.gov/Freight/freight_analysis/freight_story/fs2008.pdf.

c. Maritime Network: The Congress required the Interim NMFN ⁸ to include ports that handle at least 2,000,000 short tons of domestic and foreign trade annually, as well as other ports designated as commercial strategic seaports, based on data from the USACE Waterway Commerce Statistics. The value of goods handled by a port facility could also be used as a factor as well. Waterways (including inland river and coastal ocean routes) carrying more than 1.5 million tons of cargo are an example threshold consideration as well.

⁸ https://www.transportation.gov/administrations/office-policy/interim-national-multimodal-freight-network.

d. Aviation Network: The Interim NMFN was designated based on the landed overall weight collected from FAA's Air Carrier Activity Information System (ACAIS), but an alternative approach could use landed origin and destination cargo weight data based on the BTS T-100 database. ACAIS data captures operations only by all-cargo aircraft whereas BTS T-100 data includes cargo transported both by all-cargo aircraft and as belly cargo in other aircraft operations. A potential threshold could be airports with at least 0.5% of cargo weight at all airports in the National Plan of Integrated Airport Systems (NPIAS), based on BTS-100 data.

5. Which of the 12 factors are most important for identifying network components that are critical to our economy but that may not stand out on a volume or value basis?

6. DOT has identified potential data sources for each of the 12 factors, below. Are there other data sources or approaches DOT should consider in applying these factors to the NMFN designation? Are there any concerns with using a particular data source listed below for the associated factor?

Section 70103(b)(2) factor | Potential data sources
Factor 1: Origins and destinations of freight movement within, to, and from the United States | • Freight Analysis Framework. • TransBorder Freight Data. • Commodity Flow Survey. • U.S. Census Bureau U.S—Foreign Trade Data. • U.S. Customs and Border Protection. • National Automatic Identification System (NAIS) Data. • Energy Information Agency (EIA) Data. • AMS Data North American Rail Network (NARN).
Factor 2: volume, value, tonnage, and the strategic importance of freight | • Highway Performance Monitoring System (HPMS). • Freight Analysis Framework. • Carload Waybill data & FRA GIS Waybill Toolkit. • USACE Waterborne Commerce. • Air Carrier Activity Information System (ACAIS). • BTS-T-100. • St. Lawrence Seaway Annual Traffic Reports. • U.S. Census Bureau U.S—Foreign Trade Data. • U.S. Customs and Border Protection. • EIA Data. • AMS Data.
Factor 3: access to border crossings, airports, seaports, and pipelines | • National Transportation Atlas Database (NTAD). • GIS mileage radius to border crossings, airports, seaports.
Factor 4: economic factors, including balance of trade | • TradeStats. • Federal Reserve Board's Industrial Production Index Program. • Census Bureau Real Wholesale Trade Survey estimates. • BEA data on real retail trade sales.
Factor 5: access to major areas for manufacturing, agriculture, or natural resources | • Bureau of Economic Analysis: Real Manufacturing GDP by state. • Annual Survey of Manufacturer State-Level Value of Shipments at 4-Digit NAICS Level. • Quarterly Census of Employment and Wages data at the state level. • USDA Open Ag Data on Trucking.
Factor 6: access to energy exploration, development, installation, and production areas | • EIA energy infrastructure map. • DOT hydrogen hubs map. • Maps of ZEV charging/fueling infrastructure installed or planned.
Factor 7: intermodal links and intersections that promote connectivity | • National Transportation Atlas Database (NTAD). • GIS mileage radius to intermodal facilities. • HPMS.
Factor 8: freight choke points and other impediments contributing to significant measurable congestion, delay in freight movement, or inefficient modal connections | • Federal Highway Administration (FHWA) Freight Mobility Trends: Truck Hours of Delay. • National Performance Management Research Data Set. • GHG emissions reported from ports.
Factor 9: impacts on all freight transportation modes and modes that share significant freight infrastructure | • Commodity Flow Survey. • Freight Analysis Framework.
Factor 10: facilities and transportation corridors identified by a multi-State coalition, a State, a State freight advisory committee, or a metropolitan planning organization, using national or local data, as having critical freight importance to the region | • Direct input from States. • Direct input from multi-State corridor coalitions. • Direct input from MPOs. • Direct input from local agencies and other stakeholders.
Factor 11: major distribution centers, inland intermodal facilities, and first- and last-mile facilities | • Quarterly census of employment and wages data at the MSA level. • NTAD. • Publicly available ZEV charging/fueling maps.
Factor 12: the significance of goods movement, including consideration of global and domestic supply chains | • Commodity Flow Survey. • Freight Analysis Framework.
Multimodal Freight Data Resources and Weblinks: https://ops.fhwa.dot.gov/freight/fpcb/dataLibrary.aspx.

7. In addition to the statutory factors listed, how should DOT take into account the factors below in designating the NMFN?

a. Safety (including truck parking).

b. Climate and Sustainability (including freight related efforts to decarbonize, mitigate greenhouse gas emissions, reduce criteria and other air pollutants, and improve resilience).

c. Equity (including mitigating impacts on disadvantaged communities, addressing Environmental Justice).

d. National Defense (including strategic networks such as STRAHNET ⁹ and STRACNET,¹⁰ and DOD/Strategic Ports).

⁹ https://www.fhwa.dot.gov/policy/2004cpr/chap18.cfm.

¹⁰ https://www.sddc.army.mil/sites/TEA/Functions/SpecialAssistant/Pages/RailroadsNationalDefense.aspx.

e. Consistency with other federally designated networks including the EV freight network and the Zero-emission vehicle freight strategy.

f. Transformation (including emerging technologies and innovation).

8. What other considerations should the DOT take into account in designating the NMFN?

Schedule

This RFI is the first step in a multi-step process to designate the Final NMFN. Informed by the public comments received on this notice, the DOT expects to publish a Draft National Multimodal Freight Network later this spring. At that time, the Department will seek comment on the Draft network from all stakeholders, and will also seek additional designations from the States as described in the State Input process in 49 U.S.C. 70103(b)(4). States should prepare to consider nominations for additional designations from metropolitan planning organizations, state freight advisory committees, and owners and operators of port, rail, pipeline, and airport facilities, and ensure that those designations are consistent with the State transportation improvement program or freight plan. Additional guidance on the State Input process will be published with the Draft network. The Department plans to publish the Final NMFN, with State additions, by the end of the 2024.

Public Comment

The DOT invites comments by all those interested in the NMFN. Comments on the criteria for the final NMFN may be submitted and viewed at Docket Number DOT-OST-2024-0047. Comments must be received on or before June 11, 2024 to receive full consideration by DOT with respect to the final designation of the NMFN. After June 11, 2024, comments will continue to be available for viewing by the public.

Issue Date: April 8, 2024.
Allison L. Dane Camden,
Deputy Assistant Secretary for Multimodal Freight.

[FR Doc. 2024-07810 Filed 4-11-24; 8:45 am]

BILLING CODE 4910-9X-P